DEPARTMENT OF TRANSPORTATION

Federal Aviation Administration

14 CFR Part 39

[Docket No. FAA-2005-23392; Directorate Identifier 2005-NE-47-AD]

RIN 2120-AA64

Airworthiness Directives; Rolls-Royce Corporation (Formerly Allison Engine Company, Allison Gas Turbine Division, and Detroit Diesel Allison) Models 250-C30, 250-C40, and 250-C47 Series Turboshaft Engines

AGENCY: Federal Aviation Administration (FAA), Department of Transportation (DOT).

ACTION: Notice of proposed rulemaking (NPRM).

SUMMARY: The FAA proposes to adopt a new airworthiness directive (AD) for Rolls-Royce Corporation (formerly Allison Engine Company, Allison Gas Turbine Division, and Detroit Diesel Allison) (RRC) models 250-C30, 250-40, and 250-C47 series turboshaft engines. This proposed AD would add an additional life limit for third- and fourth-stage turbine wheels. This proposed AD results from analysis by RRC of failures of third- and fourth-stage turbine wheels. We are proposing this AD to prevent loss of power, possible engine shutdown, or uncontained failure.

DATES: We must receive any comments on this proposed AD by March 27, 2006.

ADDRESSES: Use one of the following addresses to comment on this proposed AD.

• DOT Docket Web site: Go to http://dms.dot.gov and follow the instructions for sending your comments electronically.

• Government-wide rulemaking Web site: Go to http://www.regulations.gov and follow the instructions for sending your comments electronically.

• Mail: Docket Management Facility; U.S. Department of Transportation, 400 Seventh Street, SW., Nassif Building, Room PL-401, Washington, DC 20590-0001.

• Fax: (202) 493-2251.

• Hand Delivery: Room PL-401 on the plaza level of the Nassif Building, 400 Seventh Street, SW., Washington, DC, between 9 a.m. and 5 p.m., Monday through Friday, except Federal holidays.

Contact Rolls-Royce Corporation, P.O. Box 420, Indianapolis, IN 46206-0420; telephone (317) 230-6400; fax (317) 230-4243, for the service information identified in this proposed AD.

You may examine the comments on this proposed AD in the AD docket on the Internet at http://dms.dot.gov.

FOR FURTHER INFORMATION CONTACT: John Tallarovic, Aerospace Engineer, Chicago Aircraft Certification Office, FAA, 2300 East Devon Avenue, Des Plaines, IL 60018-4696; telephone (847) 294-8180; fax (847) 294-7834.

SUPPLEMENTARY INFORMATION:

Comments Invited

We invite you to send us any written relevant data, views, or arguments regarding this proposal. Send your comments to an address listed under ADDRESSES. Include “Docket No. FAA-2005-23392; Directorate Identifier 2005-NE-47-AD” in the subject line of your comments. We specifically invite comments on the overall regulatory, economic, environmental, and energy aspects of the proposed AD. We will consider all comments received by the closing date and may amend the proposed AD in light of those comments.

We will post all comments we receive, without change, to http://dms.dot.gov, including any personal information you provide. We will also post a report summarizing each substantive verbal contact with FAA personnel concerning this proposed AD. Using the search function of the DOT Web site, anyone can find and read the comments in any of our dockets, including the name of the individual who sent the comment (or signed the comment on behalf of an association, business, labor union, etc.). You may review the DOT's complete Privacy Act Statement in the Federal Register published on April 11, 2000 (65 FR 19477-78) or you may visit http://dms.dot.gov.

Examining the AD Docket

You may examine the docket that contains the proposal, any comments received and, any final disposition in person at the DOT Docket Office between 9 a.m. and 5 p.m., Monday through Friday, except Federal holidays. The Docket Office (telephone (800) 647-5227) is located on the plaza level of the Department of Transportation Nassif Building at the street address stated in ADDRESSES. Comments will be available in the AD docket shortly after the Docket Management Facility receives them.

Discussion

Rolls-Royce Corporation investigated and analyzed nine failures of third- and fourth-stage turbine wheels, installed in models 250-C30, 250-40, and 250-C47 series turboshaft engines. The analysis revealed that third- and fourth-stage turbine wheels can prematurely fail if they are operated too many times in the transient overspeed region. This condition, if not corrected, could result in loss of power, possible engine shutdown, or uncontained engine failure.

Relevant Service Information

We have reviewed and approved the technical contents of RRC Alert Commercial Engine Bulletins (CEBs) No. CEB A-72-3272 (250-C30 series engines), No. CEB A-72-5048 (250-C40 series engines), and No. CEB A-72-6054 (250-C47 series engines), all Revision 1, all dated July 1, 2005 (combined in one document). These Alert CEBs contain revised transient overspeed limit tables, and include the steady-state avoidance range and new transient event thresholds. These Alert CEBs also include requirements to record events exceeding the “Event Threshold”.

FAA's Determination and Requirements of the Proposed AD

We have evaluated all pertinent information and identified an unsafe condition that is likely to exist or develop on other products of this same type design. We are proposing this AD, which would require recording the number of times the third- and fourth-stage turbine wheels enter into the speed range between “Event Threshold” and “Maximum Overspeed Transient”. This proposed AD would also require retiring and replacing third- and fourth-stage turbine wheels that accumulate six transient overspeed events based on certain duration and speed parameters. The proposed AD would require you to use the service information described previously to perform these actions.

Costs of Compliance

We estimate that this proposed AD would affect 1,300 engines installed on airplanes of U.S. registry. We also estimate that it would take about 42 work hours per engine to replace the third- and fourth-stage turbine wheels, and that the average labor rate is $65 per work hour. Required parts would cost about $25,000 per engine. We estimate that only 10% of all turbine wheel replacements would result from operators exceeding the new transient overspeed event limits. Based on these figures, we estimate the total potential maximum cost of the proposed AD to U.S. operators to be $3,604,900.

Authority for This Rulemaking

Title 49 of the United States Code specifies the FAA's authority to issue rules on aviation safety. Subtitle I, section 106, describes the authority of the FAA Administrator. Subtitle VII, Aviation Programs, describes in more detail the scope of the Agency's authority.

We are issuing this rulemaking under the authority described in subtitle VII, part A, subpart III, section 44701, “General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We have determined that this proposed AD would not have federalism implications under Executive Order 13132. This proposed AD would not have a substantial direct effect on the States, on the relationship between the national Government and the States, or on the distribution of power and responsibilities among the various levels of government.

For the reasons discussed above, I certify that the proposed regulation:

1. Is not a “significant regulatory action” under Executive Order 12866;

2. Is not a “significant rule” under the DOT Regulatory Policies and Procedures (44 FR 11034, February 26, 1979); and

3. Would not have a significant economic impact, positive or negative, on a substantial number of small entities under the criteria of the Regulatory Flexibility Act.

We prepared a regulatory evaluation of the estimated costs to comply with this proposed AD. See the ADDRESSES section for a location to examine the regulatory evaluation.

List of Subjects in 14 CFR Part 39

Air transportation, Aircraft, Aviation safety, Safety.

The Proposed Amendment

Under the authority delegated to me by the Administrator, the Federal Aviation Administration proposes to amend 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new airworthiness directive:

Rolls-Royce Corporation: Docket No. FAA-2005-23392; Directorate Identifier 2005-NE-47-AD.

Comments Due Date

(a) The Federal Aviation Administration (FAA) must receive comments on this airworthiness directive (AD) action by March 27, 2006.

Affected ADs

(b) None.

Applicability

(c) This AD applies to Rolls-Royce Corporation (formerly Allison Engine Company, Allison Gas Turbine Division, and Detroit Diesel Allison) (RRC) models 250-C30, 250-40, and 250-C47 series turboshaft engines. These engines are installed on, but not limited to, Bell 206L-3, Bell 206L-4, Bell 407, MDHI 369F, MDHI 369FF, MDHI 600N, and Sikorsky S-76A helicopters.

Unsafe Condition

(d) This AD results from analysis by RRC of failures of third- and fourth-stage turbine wheels. We are issuing this AD to prevent loss of power, possible engine shutdown, or uncontained failure.

Compliance

(e) You are responsible for having the actions required by this AD performed within the compliance times specified unless the actions have already been done.

(f) Within 30 days after the effective date of this AD, record each time the third- and fourth-stage turbine wheels enter into the speed range between “Event Threshold” and “Maximum Overspeed Transient”. Use paragraph 2.A. through 2.A.(5) of the Accomplishment Instructions and the applicable Figures 1 through 5 of RRC Alert Commercial Engine Bulletins (CEBs) No. CEB A-72-3272, No. CEB A-72-5048, and No. CEB A-72-6054, all Revision 1, all dated July 1, 2005 (combined in one document) to determine the speed range.

(g) Remove and retire any third-stage turbine wheel or fourth-stage turbine wheel after the sixth time the wheel enters into the speed range between “Event Threshold” and “Maximum Overspeed Transient”.

Third- and Fourth-Stage Turbine Wheel Life Limits

(h) The retirement criteria in this AD are in addition to the existing third- and fourth-stage turbine wheel hour and cycle life limits. You must retire the wheels when you exceed any published life limit (transient speed excursions, hours, or cycles).

Alternative Methods of Compliance

(i) The Manager, Chicago Aircraft Certification Office, has the authority to approve alternative methods of compliance for this AD if requested using the procedures found in 14 CFR 39.19.

Related Information

(j) None.

Issued in Burlington, Massachusetts, on January 18, 2006.
Peter A. White,
Acting Manager, Engine and Propeller Directorate, Aircraft Certification Service.

[FR Doc. E6-898 Filed 1-24-06; 8:45 am]

BILLING CODE 4910-13-P